INTERNATIONAL TRADE COMMISSION

[USITC SE-03-009]

Sunshine Act Meeting

Agency Holding the Meeting:

International Trade Commission.

Time and Date:

March 24, 2003, at 2 p.m.

Place:

Room 101, 500 E Street, SW., Washington, DC 20436.

Telephone:

(202) 205-2000.

Status:

Open to the public.

Matters to be Considered:

1. Agenda for future meetings: none.

2. Minutes.

3. Ratification List.

4. Inv. Nos. 731-TA-1006, 1008, and 1009 (Final)(Urea Ammonium Nitrate Solutions from Belarus, Russia, and Ukraine)—briefing and vote. (The Commission is currently scheduled to transmit its determination and Commissioners' opinions to the Secretary of Commerce on or before April 3, 2003.)

5. Outstanding action jackets: none.

In accordance with Commission policy, subject matter listed above, not disposed of at the scheduled meeting, may be carried over to the agenda of the following meeting.

Issued: March 11, 2003.
By order of the Commission.
Marilyn R. Abbott,
Secretary to the Commission.

[FR Doc. 03-6219 Filed 3-11-03; 2:42 pm]

BILLING CODE 7020-02-P